DEPARTMENT OF THE INTERIOR

Bureau of Land Management

[OR-027-1020-PG-020H; G 4-0081]

Steens Mountain Advisory Council; Call for Nominations

AGENCY: Bureau of Land Management (BLM), Burns District, Interior.

ACTION: Call for nominations for the Steens Mountain Advisory Council (SMAC).

SUMMARY: BLM is publishing this notice under Section 9 (a)(2) of the Federal Advisory Committee Act. Pursuant to the Steens Mountain Cooperative Management and Protection Act of 2000 (Pub. L. 106-399), BLM gives notice that the Secretary of the Interior intends to call for nominations for terms expiring on the SMAC. This notice requests the public to submit nominations for membership on the SMAC.

Any individual or organization may nominate one or more persons to serve on the SMAC. Individuals may nominate themselves for SMAC membership. Nomination forms may be obtained from the Burns District Office, Bureau of Land Management (see address below). To make a nomination, submit a completed nomination form, letters of reference from the represented interests or organizations, and any other information that speaks to the nominee's qualifications, to the Burns District Office. Nominations may be made for the following categories of interest:

• A person who is a grazing permittee on Federal lands in the Steens Mountain Cooperative Management and Protection Area (CMPA) (appointed from nominees submitted by the county court of Harney County, Oregon);

• A member of the Burns Paiute Tribe (appointed from nominees submitted by the Burns Paiute Tribe);

• A person who participates in what is commonly called mechanized or consumptive recreation, such as hunting, fishing, off-road driving, hang gliding, or parasailing (appointed by the Oregon State Director of the BLM); and

• A person who has no financial interest in the CMPA to represent statewide interests (appointed by the Governor of Oregon).

The specific category the nominee will represent should be identified in the letter of nomination. The Burns District will collect the nomination forms and letters of reference and distribute them to the officials responsible for submitting nominations (County Court of Harney County, the Governor of Oregon, Burns Paiute Tribe and BLM). BLM will then forward recommended nominations to the Secretary of the Interior, who has responsibility for making the appointments.

DATES: Nominations should be submitted to the address listed below no later than 30 days after publication of this notice.

FOR FURTHER INFORMATION CONTACT: Rhonda Karges, Management Support Specialist, Burns District Office, 28910 Hwy 20 West, Hines, Oregon 97738, (541) 573-4433, or Rhonda_Karges@or.blm.gov or from the following Web sites: http://www.or.blm.gov/Burns or http://www.or.blm.gov/steens (Pub. L. 106-399 in its entirety can be found on the Steens Web site as previously cited.).

SUPPLEMENTARY INFORMATION: The purpose of the SMAC is to advise BLM on the management of the CMPA as described in Title 1 of Pub. L. 106-399. Each member will be a person who, as a result of training and experience, has knowledge or special expertise which qualifies him or her to provide advice for one or more of the interest categories listed above.

Members of the SMAC are appointed for terms of three years. The Grazing Permittee, the member of the Burns Paiute Tribe, the Mechanized or Consumptive Recreation, and the No-Financial-Interest position terms will expire August 2004. These four positions will begin no earlier than August 2004.

Members will serve without monetary compensation, but will be reimbursed for travel and per diem expenses at current rates for Government employees. The SMAC shall meet only at the call of the Designated Federal Official, but not less than once per year.

Dated: February 9, 2004.
Karla Bird,
Andrews Resource Area Field Manager, Bureau of Land Management, Burns, Oregon.

[FR Doc. 04-9320 Filed 4-23-04; 8:45 am]

BILLING CODE 4310-HC-P